DEPARTMENT OF HEALTH AND HUMAN SERVICES

National Institutes of Health

Office of the Director; Notice of Meeting

Pursuant to section 10(d) of the Federal Advisory Committee Act, as amended (5 U.S.C. App), notice is hereby given of a meeting of the NIH Clinical Center Research Hospital Board.

The meeting will be open to the public as indicated below, with attendance limited to space available. Individuals who plan to attend and need special assistance, such as sign language interpretation or other reasonable accommodations, should notify the Contact Person listed below in advance of the meeting.

The portions of the meeting devoted to the Anonymous Safety Hotline and the laboratories or units and staff involved in the individual reports to the Hotline, staff, as well as discussions regarding non-executive employees holding specific positions in the Clinical Center will be closed to the public in accordance with the provisions set forth in section 552b(c)(9)(B) and 552b(c)(6), Title 5 U.S.C., as amended. Premature disclosure of the laboratories or units and staff involved in the individual reports could significantly limit the Hotline's purpose by compromising anonymity. Discussion of specific non-executive employees would constitute a clearly unwarranted invasion of personal privacy.

Name of Committee: NIH Clinical Center Research Hospital Board.

Date: January 13, 2017.

Open: 8:30 a.m. to 12:30 p.m.

Agenda: Board Chair's Overview, Remarks from the NIH Director and the New CEO, Clinical Center Focus Groups, Improving the Clinical Center's Census, Clinical Center Patient and Worker Safety Metrics.

Open: 1:30 p.m. to 3:30 p.m.

Agenda: IT Infrastructure and Security, Audits of Delayed Reporting—Self-Audit Results and Formal Audit Planning, Facilities Update.

Closed: 3:45 p.m. to Adjournment.

Agenda: Anonymous Safety Hotline, Clinical Center Employees.

Place: Conference Room 6C6, Building 31, National Institutes of Health, Bethesda, MD 20892.

Contact Person: Gretchen Wood, Staff Assistant, National Institutes of Health, Office of the Director, One Center Drive, Building 1 Room 126, Bethesda, MD 20892, 301-496-4272, woodgs@od.nih.gov.

Any interested person may file written comments with the committee by forwarding the statement to the Contact Person listed on this notice. The statement should include the name, address, telephone number and when applicable, the business or professional affiliation of the interested person.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Dated: December 23, 2016.
Anna Snouffer,
Deputy Director, Office of Federal Advisory Committee Policy.

[FR Doc. 2016-31611 Filed 12-28-16; 8:45 am]

BILLING CODE 4140-01-P